DEPARTMENT OF THE INTERIOR

Bureau of Land Management

[LLCON05000.L71220000.EU0000 LVTFC1802900; COC-78815]

Notice of Realty Action: Non-Competitive/Modified Competitive Sale of Public Lands in Rio Blanco and Garfield Counties, CO

AGENCY: Bureau of Land Management, Interior.

ACTION: Notice of realty action.

SUMMARY: The Bureau of Land Management (BLM) is proposing a non-competitive (direct) sale of two parcels of public land and a modified competitive sale of four parcels of public land. The sales will be subject to the applicable provisions of the Federal Land Policy and Management Act of 1976 (FLPMA), as amended, and BLM land sale regulations. The sale will be for no less than the appraised fair market value (FMV).

DATES: Interested parties must submit written comments no later than July 25, 2022.

The land will not be offered for sale until after August 9, 2022.

ADDRESSES: Mail written comments to BLM White River Field Office, Field Manager, 220 East Market Street, Meeker, CO 81641. Written comments may also be submitted via email to: blm_co_wrfo_sale@blm.gov.

FOR FURTHER INFORMATION CONTACT: Heather Sauls, Planning and Environmental Coordinator, BLM White River Field Office, telephone (970) 878-3855, email at hsauls@blm.gov; or you may contact the BLM White River Field Office at the earlier-listed address. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: White River Lodge, LLC nominated the parcels for the sale. Two of the parcels, which are surrounded by private land owned by White River Lodge, LLC would be offered through a direct sale to the lodge. The remaining four parcels would be offered through a modified competitive sale in which bidders are limited to adjacent landowners with legal access, which includes White River Lodge, LLC.

All six parcels were segregated from all forms of appropriation under public laws, including the mining laws, with publication of a Notice of Realty Action in the Federal Register on January 21, 2020 (85 FR 3412). The total segregation period may not exceed 2 years unless it is extended in accordance with 43 CFR 2711.1-2(d). The BLM Colorado State Director has determined that an extension of the segregation period is necessary for an additional 2 years to allow time to complete evaluation of the proposed sale. The extended segregation period will terminate on January 21, 2024.

The following described public land in Rio Blanco and Garfield Counties has been examined and found suitable for sale under the authority of Section 203 of FLPMA, as amended (43 U.S. C. 1713):

Parcel 1

Sixth Principal Meridian, Colorado

T. 2 N., R. 94 W.,

Sec. 29, NE¼NE¼.

The area described contains 40 acres.

The FMV is $16,000 and the parcel is proposed for a direct sale to White River Lodge, LLC.

Parcel 2

Sixth Principal Meridian, Colorado

T. 3 S., R. 94 W.,

Sec. 22, SE¼NE¼;

Sec. 23, S½NW¼ and NE¼SW¼.

The areas described aggregate 160 acres.

The FMV is $64,000 and the parcel is proposed for a direct sale to White River Lodge, LLC.

Parcel A

Sixth Principal Meridian, Colorado

T. 2 N., R. 94 W.,

Sec. 20, NW¼NE¼ and NE¼NW¼.

The area described contains 80 acres.

The FMV is $32,000 and the parcel is proposed for a modified competitive sale offered to adjacent landowners.

Parcel B

Sixth Principal Meridian, Colorado

T. 2 N., R. 94 W.,

Sec. 16, SW¼SE¼.

The area described contains 40 acres.

The FMV is $16,000 and the parcel is proposed for a modified competitive sale offered to adjacent landowners.

Parcel C

Sixth Principal Meridian, Colorado

T. 2 N., R. 94 W.,

Sec. 15, NE¼SW¼.

The area described contains 40 acres.

The FMV is $16,000 and the parcel is proposed for a modified competitive sale offered to adjacent landowners.

Parcel D

Sixth Principal Meridian, Colorado

T. 3 S., R. 94 W.,

Sec. 15, SW¼SE¼.

The area described contains 40 acres.

The FMV is $16,000 and the parcel is proposed for a modified competitive sale offered to adjacent landowners.

The proposed sale is in conformance with the BLM White River Resource Management Plan (RMP), approved in July 1997. The lands are identified as available for disposal and listed by legal description in Table 2-15A through 2-15D, Appendix D.

In accordance with 43 CFR 2711.3-3(a)(4), direct sales may be used “when in the opinion of the authorized officer, a competitive sale is not appropriate and the public interest would best be served by a direct sale[,]” including when “the adjoining ownership pattern and access indicate a direct sale is appropriate[.]” Both Parcels 1 and 2 are surrounded by private property owned by White River Lodge, LLC, and no other potential bidder currently has legal access to these parcels.

Modified competitive bid procedures can be used when “the authorized officer determines it is necessary in order to assure equitable distribution of land among purchasers” and may include “a limitation of persons permitted to bid on a specific tract of land offered for sale” (43 CFR 2711.3-2). Parcels A, B, C, and D are bordered by private property owned by White River Lodge, LLC and one other landowner. These parcels would be offered via a modified competitive sale where the bidders are limited to adjacent landowners who currently have legal access to the parcels. The bidders would be offered an opportunity to agree upon a division of the lands among themselves. In the absence of a written agreement, the bidders would be allowed to continue bidding to determine the high bidder (43 CFR 2711.3-2(b)).

Parcels A, B, C, and D will be offered for sale at auction beginning at 10 a.m. Mountain Time (MT) on August 16, 2022, at 220 East Market Street, Meeker, Colorado 81641. Only owners of adjacent parcels of land will be qualified to bid. The purpose of the sale is to implement land tenure adjustment decisions in the RMP.

Sealed bids for Parcels A, B, C, and D must be submitted to the BLM White River Field Office at 220 East Market Street, Meeker, Colorado 81641, not later than 4 p.m. MT, August 15, 2022. Bid envelopes must be marked on the left front corner with the file and parcel numbers and the sale date. Bids must be for not less than the appraised FMV as stated in this notice. Each sealed bid shall be accompanied by a certified check, postal money order, bank draft, or cashier's check made payable to the Department of the Interior, BLM, for not less than 10 percent of the bid amount. The remainder of the full bid price must be paid within 180 calendar days of the date of sale. Failure to pay the full price within 180 days will disqualify the apparent high bidder and cause the bid deposit to be forfeited to the BLM.

If issued, the conveyance document will be subject to valid existing rights and encumbrances of record, including, but not limited to, reservations for ditches and canals and all mineral deposits.

Adverse comments will be reviewed by the BLM Colorado State Director, who may sustain, vacate, or modify this realty action. In the absence of timely adverse comments, this proposal shall become the final determination of the Department of the Interior. The BLM may accept or reject any or all offers or withdraw any land or interest in land from sale.

Before including your address, phone number, email address, or other personal identifying information in your comment, be advised that your entire comment—including your personal identifying information—may be made publicly available at any time. While you may ask us in your comment to withhold from public review your personal identifying information, we cannot guarantee that we will be able to do so.

(Authority: 43 CFR 2710.0-3(a)(3)).

Stephanie Connolly,
Acting Colorado State Director.

[FR Doc. 2022-12573 Filed 6-9-22; 8:45 am]

BILLING CODE 4310-JB-P